DEPARTMENT OF AGRICULTURE

Submission for OMB Review; Comment Request

The Department of Agriculture has submitted the following information collection requirement(s) to OMB for review and clearance under the Paperwork Reduction Act of 1995, Public Law 104-13. Comments are required regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by June 3, 2024 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Food Safety and Inspection Service

Title: Consumer Labeling Research: Web-Based Experimental Survey.

OMB Control Number: 0583-NEW.

Summary of Collection: Food Safety and Inspection Service has been delegated the authority to exercise the functions of the Secretary (7 CFR 2.18, 2.53) as specified in the Federal Meat Inspection Act (FMIA) (21 U.S.C. 601, et seq.), the Poultry Products Inspection Act (PPIA) (21 U.S.C. 451, et seq.), and the Egg Products Inspection Act (EPIA) (21 U.S.C. 1031, et seq.). These statutes mandate that FSIS protect the public by verifying that meat, poultry, and egg products are safe, wholesome, and properly labeled. Safe handling instructions (SHI) are required on the labels of raw or partially cooked (i.e., not considered ready to eat) meat and poultry products if the product is destined for household consumers or institutional uses (9 CFR 317.2(l) and 9 CFR 381.125(b)). FSIS has required the SHI label for raw and partially cooked meat and poultry products since 1994 (59 FR 40209, August 8, 1994).

Need and Use of the Information: The web-based experimental survey will address two primary research questions (RQs): (1) Do any of the test SHI labels perform better at attracting consumer attention (i.e., noticeability) relative to the current SHI label? and (2) Do any of the test SHI labels perform better at motivating consumers to follow recommend safe handling instructions relative to the current SHI label? The survey will also collect information to measure the following secondary outcomes for consumer response to the SHI label: visual receptivity, perceived risk impact (overall label and risk message on label), efficacy, comprehension, learned new information, receptivity to fear appeal messaging, and perceived likelihood of getting foodborne illness if instructions are not followed. The survey will assess consumer noticeability for alternative formats of a standardized food safety cue (in addition to the SHI label) that could be used on raw and partially cooked meat and poultry products to convey that the product is not fully cooked and requires cooking to the recommended internal temperature to ensure food safety.

This data from this collection will be used to further inform label design; provide information about how consumers use food safety information on labels and whether it would be useful to provide the minimum cooking temperature on the product, and if so, where on the product (e.g., front, back, no preference), and to determine the most useful location for the SHI label (e.g., front, back, no preference). The survey will also collect information on the likelihood of scanning a QR code on a package of raw meat or poultry to get more information about safe handling practices. The survey will include a question to measure awareness of the current SHI label by asking respondents to select which images they have seen before (the response options will include the current SHI label and several distractors such as the MyPlate icon).

Description of Respondents: Individuals/Households.

Number of Respondents: 50,000.

Frequency of Responses: Reporting; Other (one-time).

Total Burden Hours: 2,500.

Rachelle Ragland-Greene,
Acting Departmental Information Collection Clearance Officer.

[FR Doc. 2024-09467 Filed 5-1-24; 8:45 am]

BILLING CODE 3410-DM-P